DEPARTMENT OF TRANSPORTATION

Federal Motor Carrier Safety Administration

Qualification of Drivers; Exemption Applications; Diabetes

AGENCY: Federal Motor Carrier Safety Administration (FMCSA), DOT.

ACTION: Notice of denials.

SUMMARY: The FMCSA announces its denial of 39 applications from individuals who requested an exemption from the Federal diabetes standard applicable to interstate truck drivers and the reasons for the denials. The FMCSA has statutory authority to exempt individuals from the diabetes standard if the exemptions granted will not compromise safety. The agency has concluded that granting these exemptions does not provide a level of safety that will equal or exceed the level of safety maintained without the exemptions for these commercial motor vehicle drivers.

FOR FURTHER INFORMATION CONTACT: Ms. W. Teresa Doggett, Office of Bus and Truck Standards and Operations (MC-PSD), (202) 366-2990, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal diabetes standard for commercial drivers with insulin-treated diabetes mellitus for a renewable 2-year period if it finds such an exemption would likely achieve a level of safety that is equivalent to, or greater than, the level that would be achieved absent such an exemption (49 CFR 381.305(a)).

Accordingly, FMCSA evaluated 39 individual exemption requests on their merits and made a determination that these applicants do not satisfy the criteria established to demonstrate that granting an exemption is likely to achieve an equal or greater level of safety than exists without the exemption. Each applicant has, prior to this notice, received a letter of final disposition on his/her individual exemption request. Those decision letters fully outline the basis for the denial and constitute final agency action. The list published today summarizes the agency's recent denials as required under 49 U.S.C. 31315(b)(4) by periodically publishing names and reasons for denials.

The following 22 applicants lacked sufficient recent driving experience under normal highway operating conditions over the previous three years that would serve as an adequate predictor of future safe performance:

Broderick, James A., Christensen, Gary C., Clemens, Stephen R., Curtis, James T., Eudy, Charles K., Ewen, Rex C., Fernald, Frank L., Goodman, Timothy L., Hankel, Jr., Charles T., Hansen, Gerald P., Kingston, Franklin P., Koenig-Warren, Linda L., Kruse, Edward V., Leisgang, Gregory A., Monroe, Tommie A., McClaflin, David E., Nelson, Ronald W., Pflugler, Jr., Robert L., Ruhmann, Wayne, Schooler, Michael D., Stock, Anthony E., Wright, Darryl L.

One applicant, Mr. Ken Greer, does not have any experience operating a commercial motor vehicle (CMV) and therefore presented no evidence from which FMCSA can conclude that granting the exemption is likely to achieve a level of safety equal to that existing without the exemption.

The following 5 applicants do not have 3 years of experience driving a CMV on public highways with insulin-treated diabetes mellitus: Choy, Jorge L., Sewell, Dean A., Thiel, Samuel G., Walters, Leonard D., Zoller, Steven R.

Three applicants, Mr. Ronald G. Gross, Mr. Israel Hernandez, and Mr. Thomas E. Richards, do not have recent experience driving a CMV. Applicants must have driven for at least the three years preceding their filing of an application for an exemption.

One applicant, Mr. John C. Nickles, does not have insulin-treated diabetes mellitus and does not need the exemption.

One applicant, Mr. Lowell T. Tucker, contributed to a crash while operating a CMV, which is a disqualifying offense.

Two applicants, Mr. Joseph C. McMasters and Mr. Nicholas C. Stanley, did not hold a license that allowed operation of vehicles over 10,000 pounds for all or part of the 3-year period.

One applicant, Mr. Brian F. Beebe was denied for multiple reasons.

Two applicants, Mr. Alfred Gjaltema and Mr. Cory L. Swanson, provided false documentation during the application process.

The commercial driver's license of one applicant, Mr. James G. Arnoldussen, was suspended during the 3-year period because of a moving violation. Applicants do not qualify for an exemption with a suspension during the 3-year period.

Issued on: July 14, 2004.
Pamela M. Pelcovits,
Director of Policy, Plans and Regulations.

[FR Doc. 04-16688 Filed 7-21-04; 8:45 am]

BILLING CODE 4910-EX-P